DEPARTMENT OF HEALTH AND HUMAN SERVICES

Substance Abuse and Mental Health Services Administration

Mandatory Guidelines for Federal Workplace Drug Testing Programs

Correction

In notice document E8-26726 beginning on page 71858 in the issue of Tuesday, November 25, 2008, make the following correction:

On page 71858, in the first column, under the DATES heading, in the first line, “Effective Date: March 25, 2008” should read “Effective Date: May 1, 2010”.

[FR Doc. Z8-26726 Filed 12-9-08; 8:45 am]

BILLING CODE 1505-01-D